DEPARTMENT OF COMMERCE

National Oceanic and Atmospheric Administration

50 CFR Part 660

RIN 0648-BG17

Fisheries Off West Coast States; Amendment 27 to the Pacific Coast Groundfish Fishery Management Plan

AGENCY: National Marine Fisheries Service (NMFS), National Oceanic and Atmospheric Administration (NOAA), Commerce.

ACTION: Notice of availability of proposed fishery management plan amendment; request for comments.

SUMMARY: NMFS announces that the Pacific Fishery Management Council (Council) has submitted Amendment 27 to the Pacific Coast Groundfish Fishery Management Plan (PCGFMP) for Secretarial review. Amendment 27 would add deacon rockfish to the FMP, reclassifies big skate as an actively managed stock, add a new inseason management process for commercial and recreational in California, and several clarifications.

DATES: Comments on Amendment 27 must be received on or before November 29, 2016.

ADDRESSES: You may submit comments on this document, identified by NOAA-NMFS-2016-0094, by any of the following methods:

• Federal e-Rulemaking Portal: Go to www.regulations.gov/#!docketDetail;D=NOAA-NMFS-2016-0094, click the “Comment Now!” icon, complete the required fields, and enter or attach your comments.

• Mail: Submit written comments to William Stelle, Regional Administrator, West Coast Region, NMFS, 7600 Sand Point Way NE., Seattle, WA 98115-0070.

Instructions: NMFS may not consider comments if they are sent by any other method, to any other address or individual, or received after the comment period ends. All comments received are a part of the public record and NMFS will post for public viewing on www.regulations.gov without change. All personal identifying information (e.g., name, address, etc.), confidential business information, or otherwise sensitive information submitted voluntarily by the sender is publicly accessible. NMFS will accept anonymous comments (enter “N/A” in the required fields if you wish to remain anonymous).

Information relevant to Amendment 27, which includes a draft environmental assessment (EA), a regulatory impact review (RIR), and an initial regulatory flexibility analysis (IRFA) are available for public review during business hours at the NMFS West Coast Regional Office at 7600 Sand Point Way NE., Seattle, WA 98115.

FOR FURTHER INFORMATION CONTACT: Gretchen Hanshew, phone: 206-526-6147, fax: 206-526-6736, or email: Gretchen.hanshew@noaa.gov.

SUPPLEMENTARY INFORMATION:

Electronic Access

This notice is accessible via the Internet at the Office of the Federal Register Web site at http://www.access.gpo.gov/su_docs/aces/aces140.html. Background information and documents are available at the NMFS West Coast Region Web site at http://www.westcoast.fisheries.noaa.gov/fisheries/groundfish/index.html and at the Council's Web site at http://www.pcouncil.org.

Background

The Magnuson-Stevens Act requires that each regional fishery management council submit any FMP or plan amendment it prepares to NMFS for review and approval, disapproval, or partial approval. The Magnuson-Stevens Act also requires that NMFS, upon receiving an FMP or amendment, immediately publish a notice that the FMP or amendment is available for public review and comment. NMFS will consider the public comments received during the comment period described above in determining whether to approve Amendment 27 to the PCGFMP.

Amendment 27 consists of 5 components: (1) Reclassify big skate from an Ecosystem Component Species to “in the fishery”, (2) add deacon rockfish to the list of species in the FMP, (3) establish a new inseason management process in California for black, canary, and yelloweye rockfish, (4) make updates to clarify several stock assessment descriptions, and (5) update several sections because canary rockfish and petrale sole are rebuilt.

1. Reclassify Big Skate as “in the fishery”

Amendment 24 to PCGFMP classified several species, including big skate, as Ecosystem Component (EC) Species. However, when big skate was classified as an EC species it was not known that a majority of the skate species that were landed and described as “unspecified skate” in the Shorebased IFQ Program landings was actually big skate. In order for a stock to be classified as an EC species (according to National Standard Guideline 1), (a) it may not be determined to be subject to overfishing, approaching overfished, or overfished; (b) it must not be likely to become subject to overfishing or overfished, according to the best available information, in the absence of conservation and management measures; and (c) it may not generally be retained for sale or personal use. As big skate are being targeted and therefore generally retained for sale, it can no longer be considered an EC species. Therefore, Amendment 27 reclassifies big skate as in the fishery and this rule proposes species specific harvest specifications.

2. New California Inseason Process

The objective of any inseason management system is to be responsive to the needs of fishing participants while keeping catch with the established harvest specifications. The scope and magnitude of options available to address management issues is highly dependent on the amount of time between when an issue is identified and when corrective action(s) can be implemented. The summer months tend to be the busiest times for both the commercial and recreational fisheries in California and mortality tends to accumulate more quickly during these times The Council meets in June and September of each year. If an action is not warranted based on information available at the June meeting, there is a lag of up to four months before additional inseason actions can be implemented. Because fisheries are ongoing during this time, overages identified at the September meeting tend to be of a higher magnitude requiring more severe corrective actions (e.g., closing a fishery). Therefore, a new inseason process for only black rockfish, canary rockfish, and yelloweye rockfish, and only in California was developed. This system would allow NMFS to take inseason action outside of a Council meeting when a Federal harvest specification for one of these species was projected to be attained or had been attained prior to the start of a Council meeting. Allowing NMFS to take inseason action outside a Council meeting can reduce the severity of management actions and reduce negative economic impacts to the fleets and to the coastal communities which depend on the revenues generated from these fisheries. Similar inseason management processes were not explored for Washington or Oregon because they have rapid inseason management processes sufficient for their inseason management needs.

3. Updates to the PCGFMP

Minor edits are included in Amendment 27 which clarify several stock assessment procedures and categories resulting from Amendment 23 that were inadvertently omitted. Amendment 23 modified the PCGFMP consistent with the revised National Standard Guidelines in 2011.

4. Updates Based on New Science for Deacon Rockfish, Canary Rockfish, and Petrale Sole

Deacon rockfish (Sebastes diaconus) was recently described and adopted as a new Sebastes species by the American Fisheries Society based on evidence of the presence of two genetically distinct cryptic species in central California. Deacon rockfish is therefore acknowledged as an FMP species that is “in the fishery” based on the FMP provision, “The category “rockfish” includes all genera and species of the family Scorpaenidae, even if not listed, that occur in the Washington, Oregon, and California area. The Scorpaenidae genera are Sebastes, Scorpaena, Sebastolobus, and Scorpaenodes.

Finally, canary rockfish and petrale sole were declared rebuilt on August 4, 2015; therefore all references to them as overfished stocks must be updated.

Public Comments

NMFS welcomes comments on the proposed FMP amendment through the end of the comment period. A proposed rule to implement Amendment 27 has been submitted for Secretarial review and approval. NMFS expects to publish and request public review and comment on proposed regulations to implement Amendment 27, along with the groundfish specifications and management measures for 2017 and 2018, in the near future. Public comments on the proposed rule must be received by the end of the comment period on the amendment to be considered in the approval/disapproval decision on the amendment. All comments received by the end of the comment period for the amendment, whether specifically directed to the amendment or the proposed rule, will be considered in the approval/disapproval decision.

Authority: 16 U.S.C. 1801 et seq.

Dated: September 27, 2016.
Emily H. Menashes,
Acting Director, Office of Sustainable Fisheries, National Marine Fisheries Service.

[FR Doc. 2016-23684 Filed 9-29-16; 8:45 am]

BILLING CODE 3510-22-P